DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 12, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: Faculty Exchange Program.

OMB Control Number: 0551—New.

Summary of Collection: The primary purpose for this information collection is to implement the Faculty Exchange Program implemented by USDA's Foreign Agricultural Service, Global Programs, Fellowship Programs. FEP began in 1995 to bring junior or mid-level university professors from countries in the Former Soviet Union to the United States for one semester to increase their knowledge of, and ability to, teach agricultural economics, marketing, and agribusiness management at their home institutions. Between 2002-2012, the program evolved to also include an Agricultural Science area, which focused on subjects such as animal health, food quality, food inspection, phytosanitary measures, and grades and standards, and involved scientists from Africa and Central America in addition to Eastern Europe and Eurasian countries. In 2016, the FEP narrowed its geographic focus solely to Africa, and to the area of Veterinary Science. Since 2016, this Veterinary Science area of the program has hosted 71 early to mid-career instructors at Colleges of Veterinary Science and Medicine from Ethiopia, Ghana, Kenya, Tanzania, and Uganda.

Authority for these programs falls under: National Agricultural Research, Extension, and Teaching Policy Act of 1977, PL 95-113, as amended, 7 U.S.C. 3291 and 3319a.

Need and Use of the Information: The information collected through the application is used to evaluate candidates' qualifications for the Fellowship Exchange Program. The information is collected through the Scientific Exchanges Fellowship Application that candidates submit to FAS staff through an electronic application. The evaluation forms are used by Faculty Exchange Program staff to assess the success of each training program. Fellowship staff use the evaluation forms to assess whether programs goals were achieved and receive feedback from participants on how to improve future programming. This is critical part of Fellowship Programs as it helps improve programs and ensure Fellowship Programs is meeting FAS goals.

Without the application and evaluation form, the Foreign Agricultural Service would not be able to execute the Faculty Exchange Program and it would be severely impacted and the objected and goals would not be met.

Description of Respondents: Individuals or households.

Number of Respondents: 35.

Frequency of Responses: Reporting: On occasion.

Total Burden Hours: 888.

Ruth Brown,
Departmental Information Collection Clearance Officer.

[FR Doc. 2023-12397 Filed 6-9-23; 8:45 am]

BILLING CODE 3410-10-P